DEPARTMENT OF THE INTERIOR

Fish and Wildlife Service

Draft Document Reassessing Methods To Estimate Population Size and Sustainable Mortality Limits for the Yellowstone Grizzly Bear (Ursus arctos horribilis) Population

AGENCY: Fish and Wildlife Service, Interior.

ACTION: Notice of document availability; request for comments.

SUMMARY: The Fish and Wildlife Service (Service) announces the availability for public review of the draft document Reassessing Methods to Estimate Population Size and Sustainable Mortality Limits for the Yellowstone Grizzly Bear. Once comments are received, analyzed, and addressed, the final revised population methodology will be appended to the Grizzly Bear Recovery Plan and the Final Conservation Strategy for the Grizzly Bear in the Greater Yellowstone Area. The Service solicits review and comment from the public on this draft information prior to appending it to the Grizzly Bear Recovery Plan.

DATES: Comments on the draft document Reassessing Methods to Estimate Population Size and Sustainable Mortality Limits for the Yellowstone Grizzly Bear must be received on or before February 21, 2006 to ensure that they will be received in time for our consideration prior to finalization of the revised methodology.

ADDRESSES: Written comments and materials regarding this information should be sent to the Recovery Coordinator, U.S. Fish and Wildlife Service, University Hall, Room 309, University of Montana, Missoula, Montana 59812. Comments and materials received are available on request for public inspection, by appointment, during normal business hours at the above address.

FOR FURTHER INFORMATION CONTACT: Dr. Christopher Servheen, Grizzly Bear Recovery Coordinator (see ADDRESSES above), at telephone (406) 243-4903.

SUPPLEMENTARY INFORMATION:

Document Availability

Persons wishing to review this document may obtain a copy by contacting the Grizzly Bear Recovery Coordinator, at the above address, contacting the above official by telephone, or by viewing it online at http://mountain-prairie.fws.gov/species/mammals/grizzly/yellowstone.htm. You also may make an appointment to view the documents at the above address during normal business hours.

Background

Restoring an endangered or threatened animal or plant to the point where it is again a secure, self-sustaining member of its ecosystem is a primary goal of the Service's endangered species program. To help guide the recovery effort, the Service prepares recovery plans for most of the listed species native to the United States. Recovery plans describe actions considered necessary for conservation of the species; establish criteria for recovery levels for downlisting or delisting them, and estimate time and cost for implementing the recovery measures needed. Under the provisions of the Endangered Species Act of 1973, as amended (16 U.S.C. 1531 et seq.), the Service approved the revised Grizzly Bear Recovery Plan on September 10, 1993.

In 1994, The Fund for Animals, Inc., and 42 other organizations and individuals filed suit over the adequacy of the 1993 Recovery Plan (Fund for Animals v. Babbitt, 903 F. Supp. 96 (D. D.C. 1995); 967 F. Supp. 6 (D. D.C. 1997). In 1995, the U.S. District Court for the District of Columbia issued an order which remanded for further study and clarification four issues that are relevant to the Yellowstone grizzly bear population, including—(1) The methods used to measure the status of bear populations; (2) the impacts of genetic isolation; (3) how mortalities related to livestock are monitored; and (4) the monitoring of disease. The Service also agreed to append habitat-based recovery criteria to the Recovery Plan prior to any delisting action. All of these issues, except the draft revised methodology for calculating total population size and establishing sustainable mortality limits for the Yellowstone grizzly bear population, have been addressed prior to publication of this Notice and were made available for public review and comment previously (62 FR 19777, April 23, 1997; 62 FR 47677, September 10, 1997; 64 FR 38464, July 16, 1999; 64 FR 38465, July 16, 1999).

As recommended by Grizzly Bear Recovery Plan Task Y11 and as per the Court Opinion, the Service has worked to “determine population conditions at which the species is viable and self sustaining” and “reevaluate and refine population criteria as new information becomes available” for the Yellowstone population of grizzly bears (Service 1993 p. 44). At the request of the Service beginning in 2000, the Interagency Grizzly Bear Study Team (IGBST), led by the U.S. Geological Survey in cooperation with various University specialists, began a comprehensive evaluation of the demographic data and the methodology used to estimate population size and establish the sustainable level of mortality for grizzly bears in the Yellowstone Ecosystem. Accordingly, the IGBST (2005) produced a critical review of the current methods for estimating population size and calculating the sustainable mortality levels for the Yellowstone grizzly population. This product is a report compiled by the IGBST that evaluates current methods, reviews recent scientific literature, examines alternative methods, and recommends the most valid technique based on the best available science (IGBST 2005). The end result of this review is the draft document Reassessing Methods to Estimate Population Size and Sustainable Mortality Limits for the Yellowstone Grizzly Bear.

The method for calculating population size using females with cubs sightings (Keating et al. 2002) and the method for calculating the unknown and unreported mortalities (Cherry et al. 2002) have been published in peer-reviewed scientific journals. We are seeking comments only on the document Reassessing Methods to Estimate Population Size and Sustainable Mortality Limits for the Yellowstone Grizzly Bear, which applies these peer-reviewed methods to the Yellowstone grizzly bear population.

Based on the comments received, the Service will finalize this methodology for calculating total population size and establishing sustainable mortality limits for the Yellowstone grizzly bear population and append it to the Grizzly Bear Recovery Plan prior to publishing a final rule to designate the Greater Yellowstone Ecosystem population of grizzly bears as a distinct population segment and to remove the Yellowstone distinct population segment of grizzly bears from the Federal list of endangered and threatened wildlife.

Public Comments Solicited

Section 4(f) of the Endangered Species Act, as amended in 1988, requires that public notice and an opportunity for public review and comment be provided during recovery plan development. We consider all information presented during a public comment period prior to approval of each new or revised recovery plan. We and other Federal management agencies also will take these comments into account in the course of implementing approved recovery plans. We now seek public comment on the draft document Reassessing Methods to Estimate Population Size and Sustainable Mortality Limits for the Yellowstone Grizzly Bear to address both Task Y11 in the Grizzly Bear Recovery Plan and the Court Opinion (Fund for Animals v. Babbitt, 903 F. Supp. 96 (D. D.C. 1995); 967 F. Supp. 6 (D. D.C. 1997)). All comments received by the date specified in the DATES section above will be considered prior to finalization of the information. Appropriate portions of the information will be appended to, and become part of, the 1993 Grizzly Bear Recovery Plan and the Final Conservation Strategy for the Grizzly Bear in the Greater Yellowstone Area.

Literature Cited

Cherry, S., M.A. Haroldson, J. Robison-Cox, and C.C. Schwartz. 2002. Estimating total human-caused mortality from reported mortality using data from radio-instrumented grizzly bears. Ursus 13:175-184.

Keating, K.A., C.C. Schwartz, M.A. Haroldson, and D. Moody. 2002. Estimating numbers of females with cubs-of-the-year in the Yellowstone grizzly bear population. Ursus 13:161-174.

Authority: The authority for this Notice is under section 4(f) of the Endangered Species Act, 16 U.S.C. 1533(f).

Dated: July 11, 2005.
Ralph O. Morgenweck,
Regional Director, Denver, Colorado.

[FR Doc. 05-23057 Filed 11-21-05; 8:45 am]

BILLING CODE 4310-55-P